DEPARTMENT OF AGRICULTURE

Forest Service

RIN 0596-AC03

Stewardship End Result Contracting Policy

AGENCY: Forest Service, USDA.

ACTION: Notice of issuance of agency interim directive.

SUMMARY: The Forest Service is issuing an interim directive to provide guidance for stewardship end result contracting (commonly referred to as “stewardship contracting”) projects. This interim directive provides internal administrative direction to guide Forest Service employees in planning, implementing, and monitoring of stewardship contracting projects. The interim directive is issued to Forest Service Handbook (FSH) 2409.19, Renewable Resources Handbook, Chapter 60, Stewardship Contracting, as interim directive No. 2409.19-2004-1.

EFFECTIVE DATE: The interim directive is effective January 28, 2004.

ADDRESSES: The interim directive is available electronically via the World Wide Web/Internet at http://www.fs.fed.us/im/directives/fsh/2409.19. Single paper copies of the directive also are available by contacting the USDA Forest Service, Forest and Rangeland Management Staff, 3 SW., Stop Code 1103, 1400 Independence Avenue SW., Washington, DC 20250-1103.

FOR FURTHER INFORMATION CONTACT: Richard Cook, (202) 205-1762, or Darci Birmingham, (202) 205-1759, Forest and Rangeland Management Staff.

SUPPLEMENTARY INFORMATION: On June 27, 2003, the Forest Service and the Bureau of Land Management (BLM) adopted jointly developed interim guidelines for implementation of the stewardship end results contracting provisions as authorized by section 323 of Public Law 108-7, the Consolidated Appropriations Resolution, 2003 (16 U.S.C. 2104 note). The Forest Service and BLM published a joint Federal Register notice with request for comment on the interim guidelines on June 27, 2003 (68 FR 38285).

Sixty-two (62) responses in the form of letters, faxes, and e-mail messages were received regarding the Federal Register notice of the interim guidelines on stewardship contracting. The comments came from private citizens, elected officials, and groups and individuals representing businesses, private organizations, and Federal agencies. Comments ranged from full support of the interim guidelines to the recommendation that the Forest Service not use much of the authority set out in 16 U.S.C. 2104 note.

Since publication of the Federal Register notice of the interim guidelines on stewardship contracting and receipt of comments, the Forest Service has developed an interim directive to provide internal administrative direction to guide Forest Service personnel in planning, implementing, and monitoring of stewardship contracting projects. The interim directive expands upon the interim guidelines and reflects the Forest Service's consideration of all comments received on the Federal Register notice of the interim guidelines.

The interim directive (ID) No. 2409.19-2004-1 is being issued to Forest Service Handbook 2409.19, Renewable Resources Handbook, Chapter 60, Stewardship Contracts.

Dated: January 22, 2004.
Dale N. Bosworth,
Chief, USDA Forest Service.

[FR Doc. 04-1791 Filed 1-27-04; 8:45 am]

BILLING CODE 3410-11-P